FEDERAL COMMUNICATIONS COMMISSION

Public Information Collection Approved by the Office of Management and Budget

February 11, 2005.

SUMMARY: The Federal Communications Commission (FCC) has received Office of Management and Budget (OMB) approval for the following public information collection pursuant to the Paperwork Reduction Act of 1995, Public Law 96-511. As agency may not conduct or sponsor a collection of information unless it displays a currently valid control number. Notwithstanding any other provisions of law, no person shall be subject to any penalty for failing to comply with a collection of information subject to the Paperwork Reduction Act (PRA) that does not display a valid control number.

FOR FURTHER INFORMATION CONTACT: For additional information or questions concerning the OMB control number and expiration date should be directed to Rita McDonald, Federal Communications Commission, Room 2-C225, 445 12th Street, SW., Washington, DC 20554, (202) 418-0668 or via the Internet to Rita.McDonald@fcc.gov.

SUPPLEMENTARY INFORMATION:

OMB Control Number: 3060-0647.

OMB Approval Date: 02/03/05.

OMB Expiration Date: 02/29/08.

Title: Annual Survey of Cable Industry Prices.

Form Number: Not Applicable.

Respondents: Business or other for-profit entities; State, local or tribal government.

Number of Respondents: 720.

Estimated Time per Response: 6.5 hours.

Needs and Uses: Section 623(k) of the Cable Television Consumer Protection and Competition Act of 1992 requires the Commission to publish an annual statistical report on average rates for basic cable service, cable programming service and equipment. The report must compare the prices charged by cable systems subject to effective competition and those not subject to effective competition. The Annual Price Survey is used to collect the data needed to prepare this report.

Federal Communications Commission.
Marlene H. Dortch,
Secretary.

[FR Doc. 05-3318 Filed 2-18-05; 8:45 am]

BILLING CODE 6712-01-P